FEDERAL COMMUNICATIONS COMMISSION

47 CFR Part 73

[DA 07-1350; MB Docket No. 04-319; RM-10984]

Radio Broadcasting Services; Clinchco, VA and Coal Run, KY

AGENCY: Federal Communications Commission.

ACTION: Proposed rule, denial.

SUMMARY: This document denies a petition for rule making filed by East Kentucky Broadcasting Corp. (“Petitioner”) proposing to substitute Channel 221C3 for Channel 276A at Coal Run and modify the license of Station WPKE-FM to reflect the channel upgrade. To accommodate the channel upgrade, Petitioner proposes to substitute Channel 276A for Channel 221A at Clinchco, Virginia and modify the license of Station WDIC-FM to reflect the channel substitution. However, Petitioner's proposed site is unacceptable due to major terrain obstruction that prevents the requisite 70 dBu signal over the entire community of license.

FOR FURTHER INFORMATION CONTACT: Robert Hayne, Media Bureau, (202) 418-2177.

SUPPLEMENTARY INFORMATION: This is a synopsis of the Commission's Report and Order, MB Docket No. 04-319, adopted March 16, 2007, and released March 20, 2007. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com.

This document is not subject to the Congressional Review Act. (The Commission, is, therefore, not required to submit a copy of this Report and Order to the Government Accountability Office pursuant to the Congressional Review Act, see 5 U.S.C. 801(a)(1)(A) because the proposed rule is denied.)

Federal Communications Commission.
John A. Karousos,
Assistant Chief, Audio Division, Media Bureau.

[FR Doc. E7-6258 Filed 4-3-07; 8:45 am]

BILLING CODE 6712-01-P